DEPARTMENT OF AGRICULTURE

Rural Utilities Service

Notice of a Project Waiver of Section 1605 (Buy American Requirement) of the American Recovery and Reinvestment Act of 2009 (ARRA) That Has Been Granted to the Plymouth Village Water & Sewer District, New Hampshire

AGENCY: Rural Utilities Service, U.S. Department of Agriculture.

ACTION: Notice.

SUMMARY: The United States Department of Agriculture (USDA) grants a project waiver of the Buy American Requirements of ARRA Section 1605 under the authority of Section 1605(b)(2) [manufactured goods are not produced in the United States in sufficient and reasonably available quantities and of a satisfactory quality] to the Plymouth Village Water & Sewer District, New Hampshire (“District”) for the purchase of a foreign manufactured rotary sludge dewatering press. This is a project specific waiver and only applies to the use of the specified product for the ARRA project being proposed. Any other ARRA recipient that wishes to use the same product must apply for a separate waiver based on project specific circumstances. The District's proposed wastewater treatment facility improvements will include a replacement of the existing belt filter press for sludge generated at the plant. Based upon information submitted by the District and its consultants, it was determined that a rotary press sludge dewatering unit, manufactured by Fournier Industries of Quebec, Canada, will meet the District's design and performance specifications. The Secretary is making this determination based on the review and recommendations of the Rural Development Buy American Coordinator. The District through its design engineer has provided sufficient documentation to support its request. The Undersecretary for Rural Development concurred on this decision to waive Section 1605 of ARRA. This action permits the purchase of a 6 channel rotary press sludge dewatering unit, manufactured by Fournier Industries, by the District, as specified in its October 7, 2009 waiver request, as part of the improvements to the wastewater treatment facility.

DATES: Effective Date: February 3, 2010.

ADDRESSES: Dallas Tonsager, Undersecretary, Rural Development, U.S. Department of Agriculture, 1400 Independence Avenue, Room 205-W, Washington, DC 20250-0107, (202) 720-4581.

FOR FURTHER INFORMATION CONTACT: Benjamin Shuman, Senior Environmental Engineer, Engineering and Environmental Staff, (202) 720-1784, Rural Utilities Service, U. S. Department of Agriculture, 1400 Independence Avenue, SW., Washington, DC 20250-1571.

SUPPLEMENTARY INFORMATION: In accordance with ARRA Section 1605(c) and pursuant to Section 1605(b)(2), USDA hereby provides notice that it is granting a project specific waiver of the Buy American Requirements of ARRA, to the Plymouth Village Water & Sewer District (“District”), New Hampshire for the purchase of a rotary press sludge dewatering unit, manufactured by Fournier Industries of Quebec, Canada.

I. Background

Section 1605(a) of ARRA requires that none of the appropriated funds may be used for the construction, alteration, maintenance, or repair of a public building or public work unless all of the iron, steel, and manufactured goods used in the project is produced in the United States, or unless a waiver is provided to the recipient by the head of the appropriate department or agency, here the Secretary of USDA. A waiver may be granted if the Secretary determines that (1) Applying these requirements would be inconsistent with public interest; (2) iron, steel, and manufactured goods are not produced in the United States in sufficient and reasonably available quantities and of a satisfactory quality; or (3) inclusion of iron, steel, and manufactured goods produced in the United States will increase the cost of the overall project by more than 25 percent. The District has requested a waiver from the Buy American Requirement for the purchase of a foreign made rotary press sludge dewatering unit as part of its wastewater treatment plant improvement project.

The purchase of the new rotary sludge press is intended to replace the existing belt filter press which is approaching the end of its useful life. The estimated cost of the overall improvements to the District's wastewater treatment plant is $5.2 million, of which the cost of the foreign made rotary sludge press unit is priced at $330,000. In designing the wastewater treatment plant, the District's design engineers evaluated the various technologies based on the following factors:

• Maintain the current annual average dewatered sludge cake solids of approximately 25% or higher.

• Improve environmental working conditions in the dewatering area by minimizing worker exposure to odorous and hazardous gases released from the sludge as well as exposure to bioaerosols and pathogens. Enclosed dewatering equipment will achieve this goal.

• Automatically adjust for variation in feed solids concentrations and sludge mix ratios to provide consistent and optimum cake solids.

• Allow for unattended, automatic operation freeing up operators for other needed tasks.

• Keep the dewatering operation as simple as possible while still maintaining optimum dewatering performance.

• Allow for some degree of backup capacity during periods of equipment failure and routine maintenance.

• Equipment must have a proven track record of low annual operation and maintenance costs and reliability.

As part of the review of potentially viable sludge dewatering units, four technologies were considered by the District and their consultants based on the above listed criteria: (1) Rotary press; (2) screw press; (3) centrifuge; and (4) belt filter press. Of the four technologies, the District determined that a rotary sludge press is the desired technology because it ranked the highest in terms of meeting the key criteria highlighted above. According to data submitted by the District's design engineers and reviewed by USDA, the foreign made rotary press sludge dewatering unit meets the District's technical specifications for design and performance of a rotary press sludge dewatering unit as part of its wastewater treatment plant improvement project.

The technical specifications for the proposed wastewater treatment facility states: “[t]he Contractor shall furnish, install and field test a complete rotary press sludge dewatering system.” According to the District, the only rotary press sludge dewatering unit that meets that above described technical specifications is not manufactured in the United States. As a result, the District requested a waiver of the ARRA Buy American provisions on the basis of nonavailability of a U.S. manufactured product that will meet the design and performance criteria specified for this rotary press sludge dewatering unit.

II. Nonavailability Finding

The Secretary has determined that, based on the information available, and to the best of USDA's knowledge, there do not appear to be other rotary press sludge dewatering units manufactured in the United States that are available at this time to meet the District's design specifications and performance requirements for this project.

The evaluation by USDA's technical review team and engineers supports the District's claim that a suitable rotary press sludge dewatering unit which meets the specifications for this project is not available in sufficient and reasonably available commercial quantities of a satisfactory quality that is manufactured in the United States. USDA's technical review team and engineers reviewed a memorandum submitted by the District describing the foreign equipment that fits the technical specifications for the rotary press sludge dewatering unit and the process the District followed in adopting the rotary press design. USDA's technical review team and engineers conducted a nationwide review of equipment vendors, manufacturers' representatives, and associated resources typically relied on by engineers who design wastewater treatment facilities. The purpose of USDA's review process was to determine whether there were any sludge dewatering rotary presses manufactured in the United States that meet the District's design specifications and performance requirements. In addition, USDA's technical review team and engineers interviewed the District's design engineer and sales engineers for a United States manufacturer that produced a dewatering rotary press. It was determined that the one domestically manufactured rotary press located by USDA engineers was not suitable for the District's performance requirements. As a result of its review, to the best of the USDA's knowledge there are no sludge dewatering presses manufactured in the United States that meet the District's design specifications and performance requirements for the District's wastewater treatment plant.

The Rural Development Buy American Coordinator has reviewed this waiver request and has determined that the supporting documentation provided by the District established a proper basis that the manufactured good was not available from a producer in the United States able to meet the design specifications and performance requirements for the proposed project.

III. Waiver

Having established a proper basis that this manufactured good was not available from a producer in the United States, the District is hereby granted a waiver from the Buy American requirements of Section 1605(a) of Public Law 111-5. This waiver permits use of ARRA funds for the purchase of the specified Fournier Industries 6 channel rotary press sludge dewatering unit documented in District's waiver request submittal dated October 7, 2009 as part of its wastewater treatment plant improvements. This supplementary information constitutes the detailed written justification required by Section 1605(c) for waivers “based on a finding under subsection (b).”

Authority: Public Law 111-5, section 1605.

Thomas J. Vilsack,
Secretary, United States of America.

[FR Doc. 2010-2217 Filed 2-2-10; 8:45 am]

BILLING CODE P